DEPARTMENT OF LABOR

Employment and Training Administration

[TA-W-50,330]

Bardon Rubber Company, Inc., Union Grove, Wisconsin; Notice of Revised Determination

By letter dated March 31, 2003, the International Union, United Automobile, Aerospace & Agricultural Implement Workers of America-UAW, requested administrative reconsideration regarding the Department's Negative Determination Regarding Eligibility to Apply for Worker Adjustment Assistance, applicable to the workers of the subject firm.

The initial investigation resulted in a negative determination issued on February 10, 2003. The Department initially denied TAA to workers of Bardon Rubber Company, Inc., Union Grove, Wisconsin producing rubber products (such as “O” rings, gaskets, and seals) because the “contributed importantly” group eligibility requirement of Section 222 of the Trade Act of 1974, as amended, was not met. The notice was published in the Federal Register on March 26, 2003 (68 FR 14708).

In the request for reconsideration, the union indicated that the subject firm should be considered on the basis of secondary upstream supplier impact, and provided the names of customers that were under existing trade certifications. Upon further review, it was revealed that the Department erred in its initial investigation, as secondary impact was indicated on the petition.

Having conducted an investigation of subject firm workers on the basis of secondary impact, it was revealed that Bardon Rubber Company, Inc., Union Grove, Wisconsin supplies component parts for clamps, valves and pump products, and at least 20 percent of its production or sales is supplied to a manufacturer whose workers were certified eligible to apply for adjustment assistance.

Conclusion

After careful review of the facts obtained in the investigation, I determine that workers of Bardon Rubber Company, Inc., Union Grove, Wisconsin qualify as adversely affected secondary workers under Section 222 of the Trade Act of 1974, as amended. In accordance with the provisions of the Act, I make the following certification:

All workers of Bardon Rubber Company, Inc., Union Grove, Wisconsin who became totally or partially separated from employment on or after December 11, 2001 through two years from the date of certification are eligible to apply for adjustment assistance under Section 223 of the Trade Act of 1974.

Signed at Washington, DC, this 11th day of July 2003.
Elliott S. Kushner,
Certifying Officer, Division of Trade Adjustment Assistance.

[FR Doc. 03-19855 Filed 8-4-03; 8:45 am]

BILLING CODE 4510-30-P